DEPARTMENT OF AGRICULTURE

Forest Service

Revision of Land Management Plan for Gila National Forest; Counties of Catron, Grant, Hidalgo, and Sierra, New Mexico

AGENCY: Forest Service, USDA.

ACTION: Notice of intent to revise the Gila National Forest Land Management Plan and prepare an associated Environmental Impact Statement.

SUMMARY: As directed by the National Forest Management Act, the USDA Forest Service is revising the Gila National Forest's Land Management Plan (hereafter referred to as Forest Plan) through development of an associated National Environmental Policy Act (NEPA) Environmental Impact Statement (EIS). This notice describes the documents available for review and how to obtain them; summarizes the needs for change to the existing Forest Plan; provides information concerning public participation and collaboration, including the process for submitting comments; provides an estimated schedule for the planning process, including the time available for comments, and includes the names and addresses of agency contacts who can provide additional information.

DATES: Comments concerning the Needs for Change and Proposed Action provided in this notice will be most useful in the development of the revised plan and draft EIS if received by June 12, 2017. The agency expects to release a draft revised plan and draft EIS, developed through a collaborative public engagement process by spring 2018, and a final revised plan and final EIS by summer/fall 2019.

ADDRESSES: Send written comments to Gila National Forest, Attn: Plan Revision, 3005 E. Camino del Bosque, Silver City, NM 88061. Comments may also be sent via email to gilaplan@fs.fed.us.

FOR FURTHER INFORMATION CONTACT: Matt Schultz, Forest Planner, Gila National Forest, 575-388-8280. Individuals who use telecommunication devices for the deaf (TDD) may call the Federal Information Relay Service (FIRS) at 1-800-877-8339 between 8 a.m. and 8 p.m., Eastern Time, Monday through Friday. More information on our forest plan revision process can be found on our Web site at http://go.usa.gov/h88k.

SUPPLEMENTARY INFORMATION: The National Forest Management Act (NFMA) of 1976 requires that every National Forest System (NFS) unit develop a forest plan. On April 9, 2012, the Forest Service finalized its land management planning rule (2012 Planning Rule, 36 CFR 219), which describes requirements for the planning process and the content of the forest plans. Forest plans describe the strategic direction for management of forest resources for ten to fifteen years, and are adaptive and amendable as conditions change over time. Under the 2012 Planning Rule, the assessment of ecological, social, cultural, and economic conditions and trends is the first stage of the planning process (36 CFR 219.6). The second stage, formal plan revision, involves the development of our forest plan in conjunction with the preparation of an Environmental Impact Statement under the National Environmental Policy Act (NEPA). The third stage of the process is monitoring and feedback, which is ongoing over the life of the revised forest plans.

The Gila National Forest has completed its assessment pursuant to 2012 Forest Planning Rule. The assessment was developed with public participation and includes an evaluation of existing information about relevant ecological, economic, cultural and social conditions, trends, and sustainability and their relationship to forest plans within the context of the broader landscape. The intent of the Gila National Forest is that this information builds a common understanding prior to entering formal plan revision. With this notice, the Gila National Forest is initiating formal plan revision and invites other governments, non-governmental parties, and the public to contribute. The intent of public engagement is to inform development of the plan revision. We encourage contributors to share material that may be relevant to the planning process, including desired conditions for the Gila National Forest. As we develop public engagement opportunities to assist with the plan revision phase, public announcements will be made and information will be posted on the Forest's Web site: http://go.usa.gov/h88k. If you would like to contribute to the process or for more information email gilaplan@fs.fed.us, or contact Matt Schultz, Forest Planner, Gila National Forest, 575-388-8280.

Name and Address of the Responsible Official

Adam Mendonca, Forest Supervisor, Gila National Forest, 3005 E. Camino del Bosque, Silver City, NM 88061.

Nature of the Decision To Be Made

The Gila National Forest is preparing an EIS to revise the existing forest plan. The EIS process is meant to inform the Forest Supervisor so he can decide which alternative best maintains and restores National Forest System terrestrial and aquatic resources while providing ecosystem services and multiple uses, as required by the National Forest Management Act and the Multiple Use Sustained Yield Act.

The revised forest plan will describe the strategic intent of managing the Forest for the next 10 to 15 years and will address the identified needs for change to the existing land management plans. The revised forest plan will provide management direction in the form of desired conditions, objectives, standards, guidelines, and suitability of lands. It will identify delineation of new management areas and possibly geographic areas across the Forest; identify the timber sale program quantity; make recommendations to Congress for Wilderness designation; and list rivers and streams eligible for inclusion in the National Wild and Scenic Rivers System. The revised forest plan will also provide a description of the plan area's distinctive roles and contributions within the broader landscape, identify watersheds that are a priority for maintenance or restoration, include a monitoring program, and contain information reflecting expected possible actions over the life of the plan.

It is also important to identify the types of decisions that will not be made within the revised forest plan. The revised forest plan will represent decisions that are strategic in nature, but will not make site-specific project decisions and will not dictate day-to-day administrative activities needed to carry on the Forest Service's internal operations. The authorization of project level activities will be based on the guidance/direction contained in the revised plan, but will occur through subsequent project specific NEPA analysis and decision-making.

The revised forest plan will provide broad, strategic guidance that is consistent with other laws and regulations. Though strategic guidance will be provided, no decisions will be made regarding the management of individual roads or trails, such as those might be associated with a Travel Management plan under 36 CFR part 212. Some issues (e.g., hunting regulations), although important, are beyond the authority or control of the National Forest System and will not be considered.

Purpose and Need (Needs for Change) and Proposed Action

According to the National Forest Management Act, forest plans are to be revised at least every 15 years. The purpose and need for revising the current forest plan are to: (1) Update the Forest Plan which was approved in 1986 and is over 30 years old, (2) reflect changes in economic, social, and ecological conditions, new policies and priorities, and new information based on monitoring and scientific research, and (3) address the preliminary identified needs for change to the existing plan, which are summarized below. Extensive public and employee involvement, along with science-based evaluations, have helped to identify theses preliminary needs for change to the existing forest plan.

What follows is a summary of the preliminary identified needs for change. A more fully developed description of the preliminary needs for change, which has been organized into several resource and management topic sections, is available for review on the plan revision Web site at: http://go.usa.gov/h88k.

Plan-Wide Changes

The ability of the National Forest to continue to provide desired social and economic benefits associated with recreation and tourism, ranching, hunting, timber, and other natural resources is affected by changing social, economic, and environmental conditions. To help balance these demands with sustainability, there is a need to:

1. Develop a desired condition to recognize and improve the Forest's role in contributing to local economies through recreation and tourism, timber and forest products, livestock grazing, and other multiple-use related activities and products while balancing these uses with available resource capacity and emerging opportunities.

2. Include management approaches throughout the plan as appropriate that consider the capacity of infrastructure, contractors and markets when planning towards desired conditions.

Relationships and Partners. Especially with challenges related to lower budgets and staffing levels, strong working relationships can help successfully implement the forest plan. With this in mind, there is a need to:

3. Include management approaches throughout the plan as appropriate that utilize collaboration with stakeholders, partnerships and volunteer opportunities as a management option to strengthen relationships and to promote movement toward desired conditions. This includes but is not limited to local, state, and federal agencies, local and tribal governments, elected officials, local communities, interested individuals, businesses, permittees, recreation and forest user groups, fire safety and community protection groups, environmental and conservation organizations, users with historic ties to the forest, volunteer and stewardship groups, educators, and youth groups. This also includes management approaches that encourage working with neighboring land managers to implement projects at a scale that improves landscape scale connectivity across mixed ownerships where natural systems, such as watersheds and wildlife corridors, span multiple administrative boundaries.

4. Develop management approaches that can strategically leverage and streamline processes for engaging partners and volunteers during project implementation and monitoring.

5. Create management approaches that emphasize public education about the Gila NF's diverse ecological, social, and economic resources, the multiple-use sustained yield philosophy, public laws and regulations, shared use ethics, and management strategies.

6. Prepare desired conditions and management approaches aimed at connecting people—particularly youth and underserved populations—with public lands and nature.

Applicable Laws, Regulations, and Policies. Forest plans must be consistent with all applicable laws, regulations, and policies, but should not repeat those requirements. Therefore, there is a need to:

7. Remove components that are redundant with existing laws, regulations and Forest Service policy where possible. These should be incorporated by specific reference, which will allow the plan to be up to date with the most recent versions without amendments.

Resource Management Approaches. The current forest plan imposes internal management boundaries, often with different management direction. This artificially fragments the National Forest and creates unnecessary complexities. Therefore, there is a need to:

8. Reevaluate the number, arrangement, and boundaries related to current forest plan management areas, and base new ones on ecological boundaries such as ecological response units (ERUs).

9. Include plan direction that provides for adaptive management. There is also a need for plan components to be more strategic than prescriptive and for increased usage of management approaches based on best available science and monitoring.

10. Develop a monitoring program that collects relevant data, tracks progress toward desired conditions, distributes information consistently, and allows for a responsive adaptive management program with available resources, and uses updated terminology and methodologies especially for air quality, facilities, fire/fuels, lands, timber, and wilderness monitoring elements.

Ecological Changes

The cumulative effects of past management, combined with current management actions and inactions have contributed to departure from the natural range of variation and risk to ecological integrity.

Upland Vegetation. Past fire suppression, historic overgrazing, and other activities have disrupted many natural processes, such as wildfire and natural vegetation succession. In the meantime, factors such as climate change, drought, and uncharacteristic fires have made upland vegetation (i.e., terrestrial vegetation communities) more vulnerable to insects, diseases, and non-native species. To address these issues, there is a need to:

11. Develop desired conditions regarding vegetation structure, composition, and function, as well as objectives, standards, guidelines and management approaches that will promote ecological restoration, support ecological resilience, and minimize risks.

12. Develop desired conditions, standards, guidelines, and management approaches to better promote the restoration and maintenance of native herbaceous vegetation, limit woody species encroachment/infill and non-native invasive plant establishment.

Frequent Fire and Infrequent Fire Ecosystems. Restoring natural vegetation conditions can increase environmental resiliency, but restoring natural ecological processes such as fire is key to sustainability. Specifically, fire can reduce the risk of larger, more severe wildfires. However, restoring the historic fire regime faces challenges related to altered fuel characteristics, climate change, and operational, budget, policy, and political constraints. To address these issues, there is a need to:

13. Update current plan direction to better support an integrated resource approach to increase flexibility for the restoration and maintenance of fire as an ecological process while addressing firefighter and public safety and health concerns, especially in the Wildland Urban Interface (WUI).

14. Develop plan direction that recognizes the natural role of fire and its use as a management tool to help achieve desired conditions appropriate to both frequent and infrequent fire ERUs across the landscape.

15. Develop plan direction that allows for the flexibility to manage naturally ignited fires to meet land management objectives based on weather and site-specific conditions (e.g. fuel conditions, topography, safety concerns and values). These objectives may include the use of fire to reduce fuel accumulations, reduce the risk of future undesirable fires, improve wildlife habitat and range conditions, and improve watershed and overall forest health.

16. Update plan direction to address vegetation structure in within the Wildland Urban Interface (WUI), since these areas may have different desired conditions than non-WUI areas.

17. Consider landscape dynamics of old growth populations when replacing current plan direction with the revised plan content identified in statement 11.

Soils, Watershed, Riparian Ecosystems, and Aquatic Habitat. The past and present management factors impacting upland vegetation have also impacted soils, watersheds, riparian ecosystems and aquatic habitat. While the National Forest has no ability to control or influence cycles of drought, climate change, water allocation or use, there is a need to:

18. Develop desired conditions, standards, guidelines, and management approaches to restore, maintain and sustainably manage soil stability, hydrologic and nutrient cycling functions (aka soil condition) for both ecosystem and watershed health.

19. Develop desired conditions, standards, guidelines, and management approaches to inventory, restore, maintain and sustainably manage riparian areas, including those associated with springs, seeps and wetlands.

20. Develop plan direction that better recognizes the connections and interrelationships of ecosystems and watershed condition and facilitates integration of their management.

21. Develop desired conditions, standards, guidelines, and management approaches to restore, maintain and sustainably manage watershed condition.

22. Develop adaptive management approaches for water dependent resources and multiple-uses.

23. Update plan direction and develop management approaches to sustainably manage water resources via enhancing adaptation by anticipating and planning for disturbances from intense storms; reducing watershed vulnerability by maintaining and restoring resilient ecosystems; increasing water conservation and planning for reductions in upland water supplies; and avoiding actions that exacerbate drought effects.

Wildlife, Fish, and Plants. The Gila National Forest is home to hundreds of animal and plant species, some of which are found only on the Gila National Forest. For a few species, changing land use outside of the Gila National Forest has increased the species' reliance on Forest Service managed lands. Recent studies have identified 66 at-risk species, including six endangered, seven threatened, two proposed threatened and 51 species of conservation concern on the Gila National Forest. Restored, resilient, and connected habitats are necessary to maintaining species diversity across the National Forest. To help achieve this, there is a need to:

24. Develop desired conditions and standards and guidelines that support ecological conditions that contribute to the conservation and recovery of federally recognized species, as well as maintain viable populations of species of conservation concern and other native species.

25. Develop standards and guidelines that allow for managing toward terrestrial, riparian and aquatic habitat and population connectivity for terrestrial and aquatic species movement across the landscape, while allowing for the restoration of the range of native species.

Restoration Approaches and Tools. Many Gila National Forest ecosystems are not as resilient as they might be. Restoration treatments are not at the scale to affect change. Fire is an important tool, but it is not the only tool available to facilitate restoration. Mechanical and manual vegetation treatments, along with managed fire, are expected to occur more often and over larger areas, with a continued emphasis on landscape scale restoration. These types of treatments have met with variable success, often producing increases in shade intolerant, re-sprouting native species such as alligator juniper. While the Gila National Forest does not currently have extensive issues with invasive species, in the coming years, such species may compound the challenge to effectively restore ecosystem resiliency. To maintain restoration treatments and the trajectory toward desired conditions, there is a need to:

26. Update plan direction regarding integrated pest management and provide plan direction on the use of pesticides for restoration.

27. Develop standards and guidelines to address the presence of nonnative species by encouraging the removal of existing populations, limiting the introduction and spread of new populations while promoting the characteristic composition and condition of native species.

Social, Cultural, and Economic Changes

The previously identified risks to ecological integrity and sustainability may impact the Forest's ability to contribute to some of the social, cultural and economic benefits desired and enjoyed by people in local communities, surrounding areas and visitors to the area.

Recreation. The Gila National Forest features a diverse range of recreational opportunities, including opportunities for solitude. There are nearly 2,000 miles of trails in the Forest trail system, including almost 200 miles of recently designated motorized trails and more than 850 miles of wilderness trails. However, because of limited maintenance funds and uncharacteristic wildfire and post-fire flooding, many trails may be infrequently maintained and difficult to follow. Recreational demands, including permitted special uses, are increasing, while many recreational opportunities have limited availability on adjacent lands. Other challenges include sustainability under current funding levels and conflicting use demands. There is a need to:

28. Develop desired conditions, standards, guidelines and management approaches to address the long-term sustainability, changing trends in demands, and intended use of recreation infrastructure, trails, and facilities.

29. Update existing and develop new desired conditions, standards, and guidelines for management of recreation activities and permitted special uses that occur in areas that are sensitive or at risk of resource degradation due to high visitation.

30. Include guidelines and management approaches to implement public education and to anticipate demand and minimize conflicts between uses.

31. Update existing desired conditions, standards, guidelines and management approaches to emphasize the importance of scenery and recreation opportunity effects when planning projects across all Forest program areas.

32. Create desired conditions, standards, guidelines, and management approaches for cave management, backcountry river use, and rockclimbing since these activities are not addressed in the current Forest Plan.

33. Update plan direction for administration of the special uses program to be aligned with current National, Regional, and Forest policy direction.

34. Prepare desired conditions, standards, and guidelines to balance consideration of special uses requests with impacts to natural and cultural resources, wilderness character, and other forest users.

Designated Areas. Designated areas represent identified exceptional areas that have distinct or unique characteristics warranting special designation. These areas have management objectives to maintain their unique characteristics. The Gila National Forest contains the world's first designated wilderness and altogether has three large wilderness areas in relatively close proximity that total nearly 800,000 acres. Most permitted outfitter and guide use occurs within designated wilderness areas and is expected to grow with the demand for trophy elk hunting. Other designated areas include scenic byways, research natural areas, national recreation trails, and 254 miles of the Continental Divide National Scenic Trail. The plan revision process includes an inventory and evaluation process for lands and rivers that may be suitable for congressional designation, and other potential administrative designations (e.g. botanical, geological areas and research natural areas) will also be further considered. To address these unique management needs and requirements, there is a need to:

35. Update desired conditions, standards, guidelines and management approaches for managing existing or potential new designated areas to maintain desired character and values unique to each area.

36. Update plan direction for the Continental Divide National Scenic Trail (CDNST) to follow the management policy and direction outlined in the 2009 Continental Divide National Scenic Trail Comprehensive Plan and to adapt desired conditions and standards from the Regional Foresters' CDNST plan revision considerations policy letter issued August 2016.

37. Update current standards and guidelines for completing permitted outfitter/guide use capacities within wilderness to inform management decisions in light of changing social and environmental conditions, and to continue to maintain alignment with National, Regional, and Forest policy direction.

Range. Most rangeland vegetation on the National Forest is in fair condition, with stable to upward trends. However, woody species encroachment, climate change, drought, and invasive species may reduce rangeland productivity. Future management that focuses on the restoration and maintenance of ecological integrity is required to address these sustainability issues. Fire restoration objectives and the protection of endangered and threatened species can pose range management challenges. Increased management flexibility that responds to climatic, operational or resource condition changes is necessary to address these challenges, and therefore there is a need to:

38. Update plan direction for livestock management that incorporates increased flexibility and adaptive management in order to restore and maintain ecological integrity of rangelands.

Timber and Special Forest Products. The National Forest provides timber and forest products, mainly to local communities and mills. Forest restoration and landscape-scale restoration projects can help sustain forest and watershed health, reduce potential for uncharacteristic wildfire, maintain or improve wildlife habitat, and maintain the ability to sustainably meet local demand. To facilitate these efforts, there is a need to:

39. Update timber suitability determinations consistent with updated plan desired conditions.

Infrastructure. Limited funding has led to an increasing amount of deferred infrastructure maintenance, affecting administrative buildings, recreation buildings, communication structures, lookout towers, airstrips, remote cabins, roads, trails, and range and wildlife developments. Roads and trails across the National Forest are important for access and fire management, and facilitate multiple-uses, but have potential negative ecological impacts. To help address these issues, there is a need to:

40. Develop plan direction and management approaches to ensure sustainable infrastructure (e.g., roads, trails, recreation and administrative facilities, range developments, airstrips, etc.) while being adaptive to budgets and resource needs (demand for services, activities, types of facilities).

41. Provide plan direction and management approaches for the maintenance prioritization process of the Gila's National Forest System roads.

42. Update plan direction and management approaches for decommissioning of unneeded roads that accounts for budgets/resource needs and constraints, but that also involves affected stakeholders.

Cultural and Historic Resources. With about 12,000 years of known human occupation and use, the National Forest includes numerous historic properties and traditional cultural properties as defined by the National Historic Preservation Act of 1966. These sites provide valuable information and cultural connections. However, these sites are not fully inventoried and are vulnerable to natural and human processes such as erosion, wildfire, and recreational use. To help protect these sites, there is a need to:

43. Update plan direction to stabilize, preserve, interpret, and protect historic and sensitive properties (e.g., archaeological sites, historic structures, and traditional cultural properties).

44. Prepare plan direction that recognizes the inherent value and sensitivity of traditional cultural properties, while maintaining the security of information about such sites.

45. Develop desired conditions in the plan to address the alignment of cultural resource management objectives with other land and resource management objectives.

Areas of Tribal Importance. The National Forest works with 10 Native American tribes in four states on policies, plans, projects, programs, and activities that might affect tribal interests. Management challenges include changes in access, forest and watershed degradation, and land development and recreational interference with traditional activities. To help tribal interests and use, there is a need to:

46. Update plan direction on giving consideration to the value and importance of areas that may be identified as a sacred site or part of an important cultural landscape by tribes (also see Land Status and Ownership, Use and Access section below).

47. Develop management approaches that include opportunities for integrating Forest management with tribal needs through shared stewardship.

Traditional and Cultural Ways of Life. For many years, the lands of the Forest have provided economic, social, and religious value to Native Americans, Hispanics, and Anglo-American traditional communities. The continued use and access to the Forest contributes greatly to the continuation of local culture and tradition, and therefore there is a need to:

48. Provide management direction for historic and contemporary cultural uses, including both economic and noneconomic uses for tribes and for those traditional communities not considered under tribal relations (i.e., traditional Hispanic and Anglo communities).

Land Status and Ownership, Use, and Access. The Lands program faces many challenges, including access and encroachment issues, title claims, communication site demands, wildland-urban interface expansion, completing property boundary surveys, and fragmentation. To help address these issues, there is a need to:

49. Develop plan direction related to Forest Service land acquisitions, disposals, and exchanges that are not covered by the existing Forest Plan.

50. Prepare plan direction for the authorization, location, and inspection of current and future communication site infrastructure because there is an increasing demand on the Forest for these services.

51. Create plan direction that is more flexible to changes in technology and can be responsive to future needs and changes in communication site demand.

52. Include management approaches for the resolution of existing and prevention of new encroachment cases on the Forest.

53. Formulate plan direction that encourages the protection of existing public access and the acquisition of new public access opportunities to National Forest lands.

Energy and Minerals. Policies and regulations regarding personal collecting of rocks, minerals, and gold ore have been identified as an area of desired improvement. To improve accuracy and consistency in this area, there is a need to:

54. Include management approaches for education and communication of policies regarding recreational mining and non-commercial rock and mineral specimen collection activities.

Public Involvement

Public participation in the planning process began prior to the May 2015 publication of a notice in the Federal Register that marked the official start of the assessment. A series of community conversations were held in March 2015 at Quemado, Reserve, Glenwood, Silver City, Mimbres and Truth or Consequences. The desired outcomes of these conversations were to introduce forest plan revision, identify expectations, opportunities and methods for communication and engagement, and build or enhance relationships between the Gila NF and its stakeholders. The information shared during these meetings were used to develop the Forest's Pubic Participation Strategy. The Public Participation Strategy and summaries of these conversations are available on the Gila NF's Plan Revision Web page at http://go.usa.gov/h88k.

Since March 2015, the Gila NF has presented on plan revision at 40 governmental and organizational meetings. Informational booths at over 15 special events such as county fairs have been an ongoing way to share materials summarizing the plan revision process. On-line and interactive classroom sessions to engage youth and educators were conducted by Western New Mexico University.

Another round of public meetings at the same locations was held in August 2015 to gather input for the assessment phase of plan revision. Participants were provided an overview of the assessment process, including the 15 topics identified in the 2012 Planning Rule. Opportunities were also provided for stakeholders to share knowledge, plans, and data for the assessment. This input was used in the development of parts of the ecological, and social, cultural and economic sections of the assessment including a section devoted to stakeholder input in most chapters.

In February 2016, the Gila NF and the Southwestern Regional Office participated in the 6th Natural History of the Gila Symposium hosted by Western New Mexico University. Ecological assessment data and analysis approaches were presented, including: an overview of forest plan revision, the analysis framework, state and transition modeling, vegetation, soil, water, at-risk species and a history of insects and disease.

The Forest released the draft assessment report in September 2016 and draft need-for-change document in October 2016 to the public and other stakeholders for feedback. Community meetings were held in communities surrounding the Forest (including Las Cruces) in late October to early November 2016 to discuss assessment key findings, collaborate to determine needs-for-change to the current plan, and continue the dialogue between the Forest and nearby residents, users, and interested individuals. All meeting materials have been posted online at http://go.usa.gov/h88k to provide an opportunity for people that couldn't attend the meetings to be able to view the materials, and to provide feedback. The Forest received 78 emails, letters, and forms providing feedback on the draft assessment report and need-for-change document, which were all considered as the Gila NF revised and finalized the documents. Stakeholder engagement will continue throughout the upcoming plan and EIS development.

Scoping Process

Written comments received in response to this notice will be analyzed to complete the identification of the needs for change to the existing plan, further develop the proposed action, and identify potential significant issues. Significant issues will, in turn, form the basis for developing alternatives to the proposed action. Comments on the preliminary needs for change and proposed action will be most valuable if received by [45 days from date of publication in the Federal Register], and should clearly articulate the reviewer's opinions and concerns. Comments received in response to this notice, including the names and addresses of those who comment, will be part of the public record. Comments submitted anonymously will be accepted and considered in the NEPA process; however, anonymous comments will not provide the Agency with the ability to provide the respondent with subsequent environmental documents, nor will anonymous comments provide standing to the commenter for the eventual Objection process. See the below Objection process material, particularly the requirements for filing an objection, for how anonymous comments are handled during the objection process. Refer to the Forest's Web site (http://go.usa.gov/h88k) for information on when public meetings will be scheduled for refining the proposed action and identifying possible alternatives to the proposed action.

Applicable Planning Rule

Preparation of the revised forest plan for the Gila National Forest began with the publication of a Notice of Assessment Initiation in the Federal Register on May 18, 2015 (80 FR 28222) and was initiated under the planning procedures contained in the 2012 Forest Service planning rule (36 CFR 219 (2012)).

Permits or Licenses Required To Implement the Proposed Action

No permits or licenses are needed for the development or revision of a forest plan.

Decisions Will Be Subject to Objection

The decision to approve the revised forest plan for the Gila National Forest will be subject to the objection process identified in 36 CFR part 219 Subpart B (219.50 to 219.62). According to 36 CFR 219.53(a), those who may file an objection are individuals and entities who have submitted substantive formal comments related to plan revision during the opportunities provided for public comment during the planning process.

Documents Available for Review

The Needs for Change documentation, the Assessment Report, summaries of the public meetings and public meeting materials, and public comments are posted on the Forest's Web site at: http://go.usa.gov/h88k. As necessary or appropriate, the material available on this site will be further adjusted as part of the planning process using the provisions of the 2012 planning rule.

Authority: 16 U.S.C. 1600-1614; 36 CFR part 219 [77 FR 21260-21273].

Dated: April 13, 2017.
Glenn Casamassa,
Associate Deputy Chief, National Forest System.

[FR Doc. 2017-08407 Filed 4-25-17; 8:45 am]

BILLING CODE 3411-15-P